DEPARTMENT OF AGRICULTURE

Rural Utilities Service

[Docket No. RUS-21-ELECTRIC-0021]

Next Era Energy LLC, Notice of Availability of a Draft Environmental Impact Statement and Notice of Public Meeting; Correction

AGENCY: Rural Utilities Service, USDA.

ACTION: Notice; correction.

SUMMARY: On October 4, 2021, the Rural Utilities Service (RUS), an agency of the United States Department of Agriculture (USDA), published a document announcing that a Draft Environmental Impact Statement (EIS) for a project proposed by Next Era Energy Inc (NEER), is available for public review and comment. RUS published the Draft EIS to inform interested parties and the general public about the project proposal and to invite the public to comment on the proposed action addressed in the Draft EIS. Following the publication of the Notice of Availability, the Agency found that a correction due to an error, is necessary. This correction changes the date public comments are due to RUS.

FOR FURTHER INFORMATION CONTACT: For information specific to this notice contact Kristen Bastis, Environmental Protection Specialist, Rural Utilities Service, Rural Development, USDA, 1400 Independence Avenue SW, Washington, DC 20250-1522. Telephone: (202) 692-4910. Email SkeletonCreekSolarPublicComments@usda.gov.

SUPPLEMENTARY INFORMATION: In FR Doc. 2021-21506, appearing on page 54674 in the Federal Register of October 4, 2021, the following corrections are made:

Correction

On page 54674, in DATES, “Written comments on this Draft EIS must be received by November 18, 2021” is corrected to read as follows “Written comments on this Draft EIS must be received by December 6, 2021”.

On page 54675, in DATES, “For consideration in the final EIS, comments must be postmarked or received online by November 18, 2021”, is corrected to read as follows “For consideration in the final EIS, comments must be postmarked or received online by December 6, 2021.”

Christopher A. McLean,
Acting Administrator, Rural Utilities Service, U.S. Department of Agriculture.

[FR Doc. 2021-24244 Filed 11-4-21; 8:45 am]

BILLING CODE P